ENVIRONMENTAL PROTECTION AGENCY

[FRL-7502-9]

Proposed Administrative Settlement Under the Comprehensive Environmental Response, Compensation, and Liability Act of 1980 Regarding the Central Steel Drum Superfund Site, Newark, NJ

AGENCY: Environmental Protection Agency.

ACTION: Notice of proposed administrative settlement and opportunity for public comment.

SUMMARY: The United States Environmental Protection Agency (“EPA”) is proposing to enter into an administrative settlement to resolve claims under the Comprehensive Environmental Response, Compensation, and Liability Act of 1980, as amended (“CERCLA”), 42 U.S.C. 9601 et seq. In accordance with EPA guidance, notice is hereby given of a proposed administrative settlement pursuant to section 122(h)(1) of CERCLA concerning the Central Steel Drum Superfund Site, located in Newark, New Jersey. This notice is being published to inform the public of the proposed settlement and to provide the public with an opportunity to comment on the proposed settlement. This settlement is intended to resolve the civil liability of certain responsible parties for response costs incurred by EPA at the Central Steel Drum Superfund Site. CERCLA provides EPA the authority to settle certain claims for response costs incurred by the United States with the approval of the Attorney General of the United States.

The proposed settlement provides that the potentially responsible parties, Marian Abrams and Jane Mattson, will pay $18,000.00 in reimbursement of response costs incurred by EPA in performing a removal action to remove the contaminants and hazardous substances from the Central Steel Drum Superfund Site in return for a covenant not to sue under sections 106 and 107 of CERCLA from the United States.

DATES: Comments must be provided on or before June 23, 2003.

ADDRESSES: Comments should be addressed to the U.S. Environmental Protection Agency, Office of Regional Counsel, 290 Broadway—17th Floor, New York, New York 10007-1866 and should refer to: In the Matter of Central Steel Drum Superfund Site, Marian Abrams and Jane Mattson, Settling Parties, U.S. EPA Region II Docket No. CERCLA-02-2003-2001.

FOR FURTHER INFORMATION CONTACT: U.S. Environmental Protection Agency, Office of Regional Counsel, 290 Broadway—17th Floor, New York, New York 10007-1866, Attention: Muthu S. Sundram, Esq. (212) 637-3148.

SUPPLEMENTARY INFORMATION: A copy of the proposed administrative settlement agreement, as well as background information relating to the settlement, may be obtained in person or by mail from EPA's Region II Office of Regional Counsel, 290 Broadway—17th Floor, New York, New York 10007-1866.

Dated: May 14, 2003.
George Pavlou,
Director, Emergency & Remedial Response Division.

[FR Doc. 03-13002 Filed 5-22-03; 8:45 am]

BILLING CODE 6560-50-P